DEPARTMENT OF ENERGY

Federal Energy Regulatory Commission

Notice of Commissioner or Commission Staff Attendance at Miso Meetings

The Federal Energy Regulatory Commission (Commission) hereby gives notice that members of the Commission and/or Commission staff may attend the following MISO-related meetings:

• Advisory Committee

○ January 27, 10 a.m.-1 p.m., Call only

○ February 24, 10 a.m.-1 p.m., Call only

○ March 23, 11 a.m.-5 p.m., Loews Hotel, 300 Poydras St., New Orleans, LA

• Board of Directors Audit & Finance Committee

○ March 23, 4:45 p.m.-6:45 p.m., Loews Hotel, 300 Poydras St., New Orleans, LA

• Board of Directors

○ March 24, 9:30 a.m.-12 noon, Loews Hotel, 300 Poydras St., New Orleans, LA

• Board of Directors Markets Committee

○ January 26, 9 a.m.-11 a.m., Call only

○ March 22, 10 a.m.-12 noon, 300 Poydras St., New Orleans, LA

• Board of Directors System Planning Committee

○ February 23, 3:30 p.m.-5:30 p.m., Call only

○ March 22, 2:30 p.m.-4:30 p.m., 300 Poydras St., New Orleans, LA

• MISO Informational Forum

○ January 26, 3 p.m.-5 p.m., Carmel

○ February 23, 3 p.m.-5 p.m., Call only

○ March 22, 4 p.m.-6 p.m., 300 Poydras St., New Orleans, LA

• MISO Market Subcommittee

○ February 2, 9:30 a.m.-4 p.m., Call only

○ March 1, 9:30 a.m.-4 p.m., Little Rock

• MISO Supply Adequacy Working Group

○ February 4, 9:30 a.m.-4:30 p.m., Little Rock

○ March 3, 9:30 a.m.-4:30 p.m., Little Rock

• MISO Regional Expansion Criteria and Benefits Task Force

○ January 21, 9:30 a.m.-4:30 p.m., Carmel

○ February 17, 9:30 a.m.-4:30 p.m., Metarie

• MISO Planning Advisory Committee

○ January 20, 9:30 a.m.-4:30 p.m., Carmel

○ February 17, 9:30 a.m.-4:30 p.m., Metarie

Unless otherwise noted all of the meetings above will be held at either:

Carmel: MISO Headquarters, 701 City Center Drive, 720 City Center Drive, and Carmel, IN 46032

Little Rock: 1700 Centerview Drive, Little Rock, AR

Eagan: 2985 Ames Crossing Rd., Eagan, MN

Metarie: 3850 N. Causeway Blvd., Suite 442, Metairie, LA

Further information and dial in instructions may be found at www.misoenergy.org. All times are Eastern Prevailing Time.

The above-referenced meetings are open to the public.

The discussions at each of the meetings described above may address matters at issue in the following proceedings:

Docket No. ER11-4081, Midwest Independent Transmission System Operator, Inc.

Docket No. ER12-678, Midwest Independent Transmission System Operator, Inc.

Docket No. ER12-2302, Midwest Independent Transmission System Operator, Inc.

Docket No. ER13-187, Midwest Independent Transmission System Operator, Inc.

Docket No. ER13-186, Midwest Independent Transmission System Operator, Inc.

Docket No. ER13-101, Midwest Independent Transmission System Operator, Inc.

Docket No. ER13-89, MidAmerican Energy Company

Docket No. ER12-1266, Midwest Independent Transmission System Operator, Inc.

Docket No. ER12-1265, Midwest Independent Transmission System Operator, Inc.

Docket No. ER13-1924, Midcontinent Independent System Operator, Inc.

Docket No. ER13-1943, Midcontinent Independent System Operator, Inc.

Docket No. ER13-1944, Midcontinent Independent System Operator, Inc.

Docket No. ER13-1945, Midcontinent Independent System Operator, Inc.

Docket No. EL13-88, Northern Indiana Public Service Corp. v Midcontinent Independent System Operator, Inc., et al.

Docket No. EL14-12, ABATE et al. v Midcontinent Independent System Operator, Inc., et al.

Docket No. AD12-16, Capacity Deliverability across the MISO/PJM Seam

Docket No. AD14-3, Coordination of Energy and Capacity across the MISO/PJM Seam

Docket No. ER13-1938, Midcontinent Independent System Operator, Inc.

Docket No. ER14-1736, Midcontinent Independent System Operator, Inc.

Docket No. ER14-2445, Midcontinent Independent System Operator, Inc.

Docket No. ER15-133, Midcontinent Independent System Operator, Inc.

Docket No. ER15-530, Midcontinent Independent System Operator, Inc.

Docket No. ER15-767, Midcontinent Independent System Operator, Inc.

Docket No. ER15-945, Midcontinent Independent System Operator, Inc.

Docket No. ER09-1431, Midwest Independent Transmission System Operator, Inc.

Docket No. ER11-2275, Midwest Independent Transmission System Operator, Inc.

Docket No. ER11-3279, Midwest Independent Transmission System Operator, Inc.

Docket No. ER12-1194, Midwest Independent Transmission System Operator, Inc.

Docket No. ER15-1210, Midcontinent Independent System Operator, Inc.

Docket No. ER13-1938, Midcontinent Independent System Operator, Inc.

Docket No. ER14-649, Midcontinent Independent System Operator, Inc.

Docket No. ER14-2952, Midcontinent Independent System Operator, Inc.

Docket No. ER14-2605, Midcontinent Independent System Operator, Inc.

Docket No. ER14-1210, Midcontinent Independent System Operator, Inc.

Docket No. ER15-943, Midcontinent Independent System Operator, Inc.

Docket No. ER16-213, Midcontinent Independent System Operator, Inc.

Docket No. ER16-469, Midcontinent Independent System Operator, Inc.

Docket No. ER16-470, Midcontinent Independent System Operator, Inc.

Docket No. ER16-490, Midcontinent Independent System Operator, Inc.

Docket No. ER16-521, Midcontinent Independent System Operator, Inc.

Docket No. ER15-2657, Midcontinent Independent System Operator, Inc.

Docket No. ER16-533, Midcontinent Independent System Operator, Inc.

Docket No. ER16-534, Midcontinent Independent System Operator, Inc.

Docket No. ER16-611, Midcontinent Independent System Operator, Inc.

Docket No. ER16-675, Midcontinent Independent System Operator, Inc.

Docket No. EL15-70, Public Citizen, Inc v. Midcontinent Independent System Operator, Inc.

Docket No. EL15-71, People of the State of Illinois v. Midcontinent Independent System Operator, Inc.

Docket No. EL15-72, Southwestern Electric Cooperative, Inc. v. Midcontinent Independent System Operator, Inc.

Docket No. EL15-82, Illinois Industrial Energy Consumers v. Midcontinent Independent System Operator, Inc.

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Dated: January 14, 2016.
Nathaniel J. Davis, Sr.,
Deputy Secretary.

[FR Doc. 2016-01120 Filed 1-20-16; 8:45 am]

BILLING CODE 6717-01-P